DEPARTMENT OF DEFENSE

Department of the Army; Corps of Engineers

Intent to Prepare a Draft Environmental Impact Statement, Walla Walla District Aquatic Ecosystem Restoration, Walla Walla River Basin, Oregon and Washington

AGENCY: Department of the Army, U.S. Army Corps of Engineers, DoD.

ACTION: Notice of intent.

SUMMARY: The U.S. Army Corps of Engineers (Corps), Walla Walla District, intends to prepare, in cooperation with the Confederated Tribes of the Umatilla Indiana Reservation (CTUIR), the project sponsor, a Draft Environmental Impact Statement (DEIS). The DEIS will be prepared in conjunction with a study to determine the feasibility of conducting aquatic ecosystem restoration within the Walla Walla River Basin in Oregon and Washington. The Walla Walla River Basin Feasibility Study will concentrate on restoration of fish habitat quality as its main objective, with primary emphasis placed upon options for increasing flows. Other habitat improvement measures identified during the study will be identified in the DEIS and considered for possible expansion of the scope of the project or for development of future projects. The DEIS will evaluate the environmental effects of alternative actions identified during the study. Specific restoration actions and proposed restoration sites will be identified and evaluated throughout the study process and in the DEIS.

FOR FURTHER INFORMATION CONTACT: Mr. James S. Smith, NEPA Coordinator, Walla Walla District Corps of Engineers, CENWW-PD-E, 201 North Third Avenue, Walla Walla, WA 99362, phone (509) 527-7244 or Mr. Chris Hyland, Project Manager, Walla Walla District Corps of Engineers CENWW-PM, 201 Third Avenue, Walla, Walla, WA 99362, phone (509) 527-7264.

SUPPLEMENTARY INFORMATION: On May 10, 2002, the Corps and CTUIR signed a Feasibility Cost Sharing Agreement, the terms of which provide for the Corps and CTUIR to share equally in the cost of conducting the Feasibility Study and preparing the Feasibility Report and DEIS.

Alternatives being considered for the proposed action include a range of measures to increase flows within the Walla Walla River Basin. The following measures have been identified for initial consideration during the Study. Related actions include analysis of effects of measures upon groundwater and analysis of optimum flows for targeted reaches. Actions ultimately proposed for implementation in future years may involve a combination of these or other measures.

1. Water Exchange: Piping Water from Another Drainage

This measure would take water from the Columbia River and transport it to existing irrigation delivery systems. In exchange, less water would be withdrawn from ground and surface waters for use in the irrigation delivery systems.

II. Off-Channel Storage Reservoirs

This potential measure would involve construction of off-channel water storage reservoirs that would store water when it is available and release it during periods of low flow. In exchange, less water would be withdrawn from ground and surface waters.

III. Irrigation Efficiency

Potential measures include improved canal lining systems and consolidation of existing irrigation delivery system to reduce seepage losses, and use of more efficient irrigation application methods.

IV. Water Rights

This measure would include possible acquisition of existing surface and ground water rights issued by the states of Oregon and Washington or transfer into trust for environmental purposes. this effort would be studied for the purposes of ensuring that flows were met at selected sites.

V. Channel Modification

Potential modifications of the Walla Walla River and other Basin river channels may also be studied if the benefits of increased flow are not realized. Such studies may, but will not necessarily include efforts to reduce seepage and the resulting effects on groundwater rejuvenation and/or recharge.

VI. No Action

The no action alternative identifies the “without” project condition, or those activities which will occur or continue to occur whether or not the proposed actions ultimately identified in the DEIS are implemented.

The public scoping period will run from August 28 through September 27, 2002. The Corps plans to have formal public meetings during the scoping period, with times and exact dates yet to be determined. The Corps currently plans to have meetings in Milton-Freewater and Mission, Oregon, and in Walla Walla and Dayton, Washington.

The DEIS should be available for public review in April 2004.

Harry L. Cunningham,
MAJ, EN, Deputy District Commander.

[FR Doc. 02-22193 Filed 8-29-02; 8:45 am]

BILLING CODE 3910-GC-M